DEPARTMENT OF HEALTH AND HUMAN SERVICES

Food and Drug Administration

[Docket No. FDA-N-2013-1041]

Fibromyalgia Public Meeting on Patient-Focused Drug Development; Correction

AGENCY: Food and Drug Administration, HHS.

ACTION: Notice of public meeting; request for comments; correction.

SUMMARY: The Food and Drug Administration (FDA) is correcting a document that appeared in the Federal Register of September 23, 2013 (78 FR 58313). The document announced a public meeting entitled “Fibromyalgia Public Meeting on Patient-Focused Drug Development” and opportunity for public comment. The document published with an incorrect date for submission of electronic and written comments. This document corrects that error.

FOR FURTHER INFORMATION CONTACT: Graham Thompson, Center for Drug Evaluation and Research, Food and Drug Administration, 10903 New Hampshire Ave., Bldg. 51, rm. 1199, Silver Spring, MD 20993, 301-796-5003, FAX: 301-847-8443, email: graham.thompson@fda.hhs.gov.

SUPPLEMENTARY INFORMATION: In FR Doc 2013-23019, appearing on page 58313 in the Federal Register of Monday, September 23, 2013, the following corrections are made:

1. On page 58313, in the first column, in the “Dates” section, the last sentence is corrected to read “Submit electronic or written comments by February 10, 2014.”

2. On page 58314, in the second column, in the fourth full paragraph, the last sentence is corrected to read “Comments may be submitted until February 10, 2014.”

Dated: October 3, 2013.
Leslie Kux,
Assistant Commissioner for Policy.

[FR Doc. 2013-24782 Filed 10-22-13; 8:45 am]

BILLING CODE 4160-01-P